DEPARTMENT OF THE INTERIOR

National Indian Gaming Commission

Notice of Approved Class III Tribal Gaming Ordinances

AGENCY: National Indian Gaming Commission.

ACTION: Notice.

SUMMARY: The purpose of this notice is to inform the public of the approved Class III tribal gaming ordinances.

DATES: Effective Date: This notice is effective upon date of publication in the Federal Register.

FOR FURTHER INFORMATION CONTACT: Ms. Shakira Ferguson, Office of General Counsel at the National Indian Gaming Commission, 202-632-7003.

SUPPLEMENTARY INFORMATION: The Indian Gaming Regulatory Act (IGRA), 25 U.S.C. 2701 et seq., established the National Indian Gaming Commission (Commission). Section 2710 of IGRA authorizes the Chair of the Commission to approve Class II and Class III tribal gaming ordinances. Section 2710(d)(2)(B) of IGRA, as implemented by NIGC regulations, 25 CFR 522.8, requires the Chair to publish in the Federal Register approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission views the publishing a notice of approved Class III tribal gaming ordinances in the Federal Register as sufficient to meet the requirements of 25 U.S.C. 2710(d)(2)(B). Every approved tribal gaming ordinance, every approved ordinance amendment, and the approval thereof, are posted on the Commission's Web site (www.nigc.gov) under Reading Room, Gaming Ordinances. Also, the Commission will make copies of approved Class III ordinances available to the public upon request. Requests can be made in writing to the Office of General Counsel, National Indian Gaming Commission, Attention: Office of General Counsel, 1441 L Street NW., Suite 9100, Washington, DC 20005.

The following constitutes a consolidated list of all Tribes that have approved tribal gaming ordinances authorizing Class III gaming.

1. Absentee-Shawnee Tribe of Indian of Oklahoma

2. Agua Caliente Band of Cahuilla Indians

3. Ak-Chin Indian Community of the Maricopa Indian Reservation

4. Alabama-Quassarte Tribal Town

5. Alturas Indian Rancheria

6. Apache Tribe of Oklahoma

7. Assiniboine & Sioux Tribes of Fort Peck Indian Reservation

8. Augustine Band of Cahuilla Indians

9. Bad River Band of Lake Superior Tribe of Chippewa Indians

10. Barona Group of Captain Grande Band of Mission Indians

11. Bay Mills Indian Community

12. Bear River Band of Rohnerville Rancheria

13. Berry Creek Rancheria of Tyme Maidu Indians

14. Big Lagoon Rancheria

15. Big Pine Band of Owens Valley Paiute Shoshone Indians

16. Big Sandy Rancheria Band of Western Mono Indians

17. Big Valley Band of Pomo Indians

18. Blackfeet Tribe

19. Blue Lake Rancheria of California

20. Bois Forte Band of the Minnesota Chippewa Tribe

21. Buena Vista Rancheria of Me-Wuk Indians

22. Burns Paiute Tribe

23. Cabazon Band of Mission Indians

24. Cachil DeHe Band of Wintun Indians of the Colusa Indian Community

25. Caddo Nation of Oklahoma

26. Cahto Indian Tribe of the Laytonville Rancheria

27. Cahuilla Band of Mission Indians

28. California Valley Miwok Tribe

29. Campo Band of Diegueno Mission Indians

30. Chemehuevi Indian Tribe

31. Cher-Ae Heights Indian Community of the Trinidad Rancheria

32. Cherokee Nation of Oklahoma

33. Cheyenne and Arapahoe Tribes

34. Cheyenne River Sioux Tribe

35. Chickasaw Nation of Oklahoma

36. Chicken Ranch Rancheria of Me-Wuk Indians

37. Chippewa-Cree Tribe of the Rocky Boy's Reservation

38. Chitimacha Tribe of Louisiana

39. Choctaw Nation of Oklahoma

40. Citizen Potawatomi Nation

41. Cloverdale Rancheria of Pomo Indians

42. Cocopah Indian Tribe

43. Coeur d'Alene Tribe

44. Colorado River Indian Tribes

45. Comanche Nation of Oklahoma

46. Confederated Salish and Kootenai Tribes of the Flathead Reservation

47. Confederated Tribes and Bands of the Yakama Nation

48. Confederated Tribes of Coos, Lower Umpqua and Siuslaw Indians of Oregon

49. Confederated Tribes of the Chehalis Reservation

50. Confederated Tribes of the Colville Reservation

51. Confederated Tribes of the Grand Ronde Community of Oregon

52. Confederated Tribes of the Siletz Indians of Oregon

53. Confederated Tribes of the Umatilla Reservation

54. Confederated Tribes of the Warm Springs Reservation

55. Coquille Indian Tribe

56. Coushatta Tribe of Louisiana

57. Cow Creek Band of Umpqua Indians of Oregon

58. Coyote Valley Band of Pomo Indians of California

59. Crow Creek Sioux Tribe

60. Crow Indian Tribe of Montana

61. Delaware Tribe of Western Oklahoma

62. Delaware Tribe of Indians

63. Dry Creek Rancheria of Pomo Indians of California

64. Eastern Band of Cherokee Indians

65. Eastern Shawnee Tribe of Oklahoma

66. Eastern Shoshone Tribe of the Wind River Indian Reservation

67. Elem Indian Colony of Pomo Indians

68. Elk Valley Rancheria

69. Ely Shoshone Tribe of Nevada

70. Enterprise Rancheria of the Maidu Indians of California

71. Ewiiaapaayp Band of Kumeyaay Indians

72. Fallon Paiute-Shoshone Tribes

73. Federated Indians of Graton Rancheria

74. Flandreau Santee Sioux Tribe of South Dakota

75. Fond du Lac Band of Lake Superior Chippewa

76. Forest County Potawatomi Community

77. Fort Belknap Indian Community

78. Fort Independence Indian Community of Paiute Indians

79. Fort McDermitt Paiute-Shoshone Tribe of Nevada and Oregon

80. Fort McDowell Yavapai Nation

81. Fort Mojave Indian Tribe of Arizona, California and Nevada

82. Gila River Indian Community

83. Grand Portage Band of Chippewa Indians

84. Grand Traverse Band of Ottawa and Chippewa Indians

85. Greenville Rancheria of Maidu Indians of California

86. Grindstone Indian Rancheria of Wintun-Wailaki Indians of California

87. Guidiville Band of Pomo Indians

88. Habematolel Pomo of Upper Lake

89. Hannahville Indian Community

90. Ho-Chunk Nation of Wisconsin

91. Hoopa Valley Tribe

92. Hopland Band of Pomo Indians

93. Hualapai Indian Tribe

94. Iipay Nation of Santa Ysabel of California

95. Iowa Tribe of Kansas and Nebraska

96. Iowa Tribe of Oklahoma

97. Jackson Rancheria Band of Miwuk Indians

98. Jamestown S'Klallam Tribe of Washington

99. Jena Band of Choctaw Indians

100. Jicarilla Apache Nation

101. Kaibab Band of Paiute Indians

102. Kalispel Tribe of Indians

103. Karuk Tribe

104. Kaw Nation

105. Keweenaw Bay Indian Community

106. Kialegee Tribal Town

107. Kickapoo Tribe of Indians in Kansas

108. Kickapoo Tribe of Oklahoma

109. Kiowa Tribe of Oklahoma

110. Klamath Tribes

111. Klawock Cooperative Association

112. Kootenai Tribe of Idaho

113. Lac Courte Oreilles Band of Lake Superior Chippewa Indians

114. Lac du Flambeau Band of Lake Superior Chippewa Indians

115. Lac Vieux Desert Band of Lake Superior Chippewa Indians

116. LaJolla Band of Luiseno Indians

117. La Posta Band of Mission Indians

118. Las Vegas Paiute Tribe

119. Leech Lake Band of Chippewa Indians

120. Little River Band of Ottawa Indians

121. Little Traverse Bay Bands of Odawa Indians

122. Lower Brule Sioux Tribe

123. Lower Elwha Klallam Tribe

124. Lower Sioux Indian Community

125. Lummi Indian Tribe

126. Lytton Rancheria of California

127. Manchester Band of Pomo Indians of the Manchester-Point Arena Rancheria

128. Manzanita Band of Mission Indians

129. Mashantucket Pequot Tribe

130. Match-E-Be-Nash-She-Wish Band of the Potawatomi Indians of Michigan

131. Mechoopda Indian Tribe of Chico Rancheria

132. Menominee Indian Tribe of Wisconsin

133. Mescalero Apache Tribe

134. Miami Tribe of Oklahoma

135. Middletown Rancheria of Pomo Indians

136. Mille Lacs Band of Ojibwe

137. Mississippi Band of Choctaw Indians

138. Moapa Band of Paiute Indians

139. Modoc Tribe of Oklahoma

140. Mohegan Indian Tribe of Connecticut

141. Mooretown Rancheria of Maidu Indians

142. Morongo Band of Mission Indians

143. Muckleshoot Indian Tribe

144. Muscogee (Creek) Nation

145. Narragansett Indian Tribe

146. Navajo Nation

147. Nez Perce Tribe

148. Nisqually Indian Tribe

149. Nooksack Indian Tribe

150. Northern Arapaho Tribe of the Wind River Indians

151. Northern Cheyenne Tribe

152. Nottawaseppi Huron Band of Potawatomi

153. Oglala Sioux Tribe

154. Ohkay Owingeh

155. Omaha Tribe of Nebraska

156. Oneida Nation of New York

157. Oneida Tribe of Indians of Wisconsin

158. Osage Nation

159. Otoe-Missouri Tribe of Indians

160. Ottawa Tribe of Oklahoma

161. Paiute-Shoshone Indians of the Bishop Community

162. Pala Band of Luiseno Mission Indians

163. Pascua Yaqui Tribe of Arizona

164. Paskenta Band of Nomlaki Indians

165. Pauma Band of Mission Indians

166. Pawnee Nation of Oklahoma

167. Pechanga Band of Mission Indians

168. Peoria Tribe of Indians of Oklahoma

169. Picayune Rancheria of Chukchansi Indians

170. Pinoleville Band of Pomo Indians

171. Pit River Tribe

172. Poarch Band Creek Indians

173. Pokagon Band of Potawatomi Indians of Michigan

174. Ponca Tribe of Oklahoma

175. Ponca Tribe of Nebraska

176. Port Gamble S'Klallam Tribe

177. Prairie Band of Potawatomi Nation

178. Prairie Island Indian Community

179. Pueblo of Acoma

180. Pueblo of Isleta

181. Pueblo of Jemez

182. Pueblo of Laguna

183. Pueblo of Nambe

184. Pueblo of Picuris

185. Pueblo of Pojoaque

186. Pueblo of San Felipe

187. Pueblo of Sandia

188. Pueblo of Santa Ana

189. Pueblo of Santa Clara

190. Pueblo of Santo Domingo

191. Pueblo of Taos

192. Pueblo of Tesuque

193. Puyallup Tribe of Indians

194. Pyramid Lake Paiute Tribe

195. Quapaw Tribe of Indians

196. Quartz Valley Indian Community

197. Quechan Tribe of Fort Yuma Indian Reservation

198. Quileute Tribe

199. Quinault Indian Nation

200. Red Cliff Band of Lake Superior Chippewa Indians

201. Red Cliff, Sokaogon Chippewa and Lac Courte Oreilles Band

202. Red Lake Band of Chippewa Indians

203. Redding Rancheria

204. Redwood Valley Rancheria of Pomo Indians

205. Reno-Sparks Indian Colony

206. Resighini Rancheria of Coast Indian Community

207. Rincon Band of Luiseno Mission Indians

208. Robinson Rancheria of Pomo Indians

209. Rosebud Sioux Tribe

210. Round Valley Indian Tribe

211. Sac & Fox Nation of Oklahoma

212. Sac & Fox Tribe of Mississippi in Iowa

213. Sac & Fox Nation of Missouri in Kansas and Nebraska

214. Saginaw Chippewa Indian Tribe of Michigan

215. Salt River Pima-Maricopa Indian Community

216. Samish Indian Tribe

217. San Carlos Apache Tribe

218. San Manual Band of Mission Indians

219. San Pasqual Band of Diegueno Mission Indians

220. Santa Rosa Rancheria Tachi-Yokut Tribe

221. Santa Ynez Band of Chumash Mission Indians

222. Sauk-Suiattle Indian Tribe

223. Sault Ste. Marie Tribe of Chippewa Indians

224. Scotts Valley Band of Pomo Indians

225. Seminole Nation of Oklahoma

226. Seminole Tribe of Florida

227. Seneca Nation of Indians of New York

228. Seneca-Cayuga Tribe of Oklahoma

229. Shakopee Mdewakanton Sioux Community

230. Shawnee Tribe

231. Sherwood Valley Rancheria of Pomo Indians

232. Shingle Springs Band of Miwuk Indians

233. Shoalwater Bay Indian Tribe

234. Shoshone-Bannock Tribes of the Fort Hall Indian Reservation of Idaho

235. Sisseton-Wahpeton Oyate of the Lake Traverse Reservation

236. Skokomish Indian Tribe

237. Smith River Rancheria

238. Snoqualmie Tribe

239. Soboba Band of Luiseno Indians

240. Sokaogon Chippewa Community

241. Southern Ute Indian Tribe

242. Sprite Lake Tribe

243. Spokane Tribe of Indians

244. Squaxin Island Tribe

245. St. Croix Chippewa Indians of Wisconsin

246. St. Regis Mohawk Tribe

247. Standing Rock Sioux Tribe

248. Stillaguamish Tribe of Indians

249. Stockbridge-Munsee Community

250. Suquamish Tribe of the Port Madison Reservation

251. Susanville Indian Rancheria

252. Swinomish Indian Tribal Community

253. Sycuan Band of Diegueno Mission Indians

254. Table Mountain Rancheria

255. Te-Moak Tribe of Western Shoshone Indians of Nevada

256. Thlopthlocco Tribal Town

257. Three Affiliated Tribes of the Fort Berthold Reservation

258. Timbisha Shoshone Tribe

259. Tohono O'odham Nation

260. Tonkawa Tribe of Oklahoma

261. Tonto Apache Tribe

262. Torres Martinez Desert Cahuilla Indians

263. Tulalip Tribes of Washington

264. Tule River Tribe

265. Tunica-Biloxi Indians of Louisiana

266. Tuolumne Band of Me-Wuk Indians

267. Turtle Mountain Band of Chippewa Indians

268. Twenty-Nine Palms Band of Mission Indians

269. United Auburn Indian Community

270. Upper Sioux Community

271. Upper Skagit Indian Tribe of Washington

272. Ute Mountain Ute Tribe

273. U-tu-Utu-Gwaitu Paiute Tribe of Benton Paiute Reservation

274. Viejas Band of Kumeyaay Indians

275. Washoe Tribe of Nevada and California

276. White Earth Band of Chippewa Indians

277. White Mountain Apache Tribe

278. Wichita and Affiliated Tribes of Oklahoma

279. Winnebago Tribe of Nebraska

280. Wiyot Tribe of Table Bluff Reservation

281. Wyandotte Nation of Oklahoma

282. Yankton Sioux Tribe

283. Yavapai Apache Nation of the Camp Verde Indian Reservation

284. Yavapai-Prescott Indian Tribe

285. Yocha-De-He Wintun Nation

286. Yurok Tribe

National Indian Gaming Commission.
Tracie L. Stevens,
Chairwoman.
Daniel J. Little,
Associate Commissioner.

[FR Doc. 2013-04947 Filed 3-4-13; 8:45 am]

BILLING CODE 7565-02-P